DEPARTMENT OF COMMERCE

International Trade Administration

[A-570-904]

Certain Activated Carbon From the People's Republic of China: Final Results of Antidumping Duty Administrative Review; and Final Determination of No Shipments; 2019-2020

AGENCY: Enforcement and Compliance, International Trade Administration, Department of Commerce.

SUMMARY: The Department of Commerce (Commerce) determines that Datong Juqiang Activated Carbon Co., Ltd. (Datong Juqiang) and Carbon Activated Tianjin Co., Ltd. (Carbon Activated) sold certain activated carbon from the People's Republic of China (China) at less than normal value during the period of review (POR), April 1, 2019, through March 31, 2020.

DATES: Applicable December 28, 2021.

FOR FURTHER INFORMATION CONTACT: Jinny Ahn or Joshua Simonidis, AD/CVD Operations, Office VIII, Enforcement and Compliance, International Trade Administration, Department of Commerce, 1401 Constitution Avenue NW, Washington, DC 20230; telephone: (202) 482-0339 or (202) 482-0608, respectively.

SUPPLEMENTARY INFORMATION:

Background

On June 28, 2021, Commerce published the Preliminary Results.¹ For events subsequent to the Preliminary Results, see the Issues and Decision Memorandum.² On October 7, 2021,³ in accordance with section 751(a)(3)(A) of the Tariff Act of 1930, as amended (the Act), Commerce extended the deadline for issuing the final results until December 17, 2021.

¹ See Certain Activated Carbon from the People's Republic of China: Preliminary Results of Antidumping Duty Administrative Review, and Preliminary Determination of No Shipments; 2019-2020, 86 FR 33988 (June 28, 2021) (Preliminary Results), and accompanying Preliminary Decision Memorandum (PDM).

² See Memorandum, “Certain Activated Carbon from the People's Republic of China: Issues and Decision Memorandum for the Final Results of the Thirteenth Antidumping Duty Administrative Review,” dated concurrently with, and hereby adopted by, this notice (Issues and Decision Memorandum).

³ See Memorandum, “Activated Carbon from the People's Republic of China: Extension of Deadline for Final Results of the Thirteenth Antidumping Duty Administrative Review,” dated October 7, 2021.

Scope of the Order

The merchandise subject to the Order ⁴ is certain activated carbon. A full description of the scope of the Order is contained in the Issues and Decision Memorandum.

⁴ See Notice of Antidumping Duty Order: Certain Activated Carbon from the People's Republic of China, 72 FR 20988 (April 27, 2007) (Order).

Analysis of Comments Received

In the Issues and Decision Memorandum, we addressed all issues raised in the interested parties' case and rebuttal briefs. In Appendix I to this notice, we provided a list of the issues raised by the parties. The Issues and Decision Memorandum is a public document and is on file electronically via Enforcement and Compliance's Antidumping and Countervailing Duty Centralized Electronic Service System (ACCESS). ACCESS is available to registered users at https://access.trade.gov. In addition, parties can directly access a complete version of the Issues and Decision Memorandum on the internet at https://access.trade.gov/public/FRNoticesListLayout.aspx.

Changes Since the Preliminary Results

Based on our review of the record and comments received from interested parties regarding our Preliminary Results, we made certain revisions to the margin calculations for Datong Juqiang,⁵ and consequently, to the rate assigned to the non-examined, separate rate respondents.⁶

⁵ See Memorandum, “Antidumping Duty Administrative Review of Certain Activated Carbon the People's Republic of China: Final Results Calculation Memorandum for Datong Juqiang Activated Carbon Co., Ltd.” (Datong Juqiang's Final Calculation Memorandum), dated concurrently with this memorandum; see also Memorandum, “Thirteenth Administrative Review of Certain Activated Carbon from the People's Republic of China: Surrogate Values for the Final Results,” dated concurrently with this memorandum.

⁶ For details on the changes made since the Preliminary Results, see the Issues and Decision Memorandum.

Final Determination of No Shipments

In the Preliminary Results, we preliminarily determined that Beijing Pacific Activated Carbon Products Co., Ltd.; Jilin Bright Future Chemicals Co., Ltd.; Shanxi Dapu International Trade Co., Ltd.; Shanxi Industry Technology Trading Co., Ltd.; Shanxi Tianxi Purification Filter Co., Ltd.; and Tianjin Channel Filters Co., Ltd., had no shipments of subject merchandise to the United States during the POR.⁷ We received no information to contradict this determination. Therefore, we continue to find that these companies had no shipments of subject merchandise during the POR and will issue appropriate liquidation instructions that are consistent with our “automatic assessment” clarification for these final results.⁸

⁷ See Preliminary Results, 86 FR at 33988.

⁸ See Non-Market Economy Antidumping Proceedings: Assessment of Antidumping Duties, 76 FR 65694 (October 24, 2011) (Assessment Practice Refinement).

Separate Rate Respondents

In our Preliminary Results, we determined that Carbon Activated, Datong Juqiang, and seven other companies demonstrated their eligibility for separate rates.⁹ We received no argument since the issuance of the Preliminary Results that provide a basis for reconsideration of these determinations. Therefore, for these final results, we continue to find that the nine companies listed in the table in the “Final Results” section of this notice are eligible for a separate rate.

⁹ See Preliminary Results PDM at 4-8.

Rate for Non-Examined Separate Rate Respondents

In the Preliminary Results,¹⁰ and consistent with Commerce's practice,¹¹ we assigned the non-examined, separate rate companies a rate equal to the weighted-average of the calculated weighted-average dumping margins for the mandatory respondents that are not zero, de minimis (i.e., less than 0.5 percent), or based entirely on facts available, weighted by the total U.S. sales quantities from the public version of the submissions from the mandatory respondents.¹² No parties commented on the methodology for calculating this separate rate. For the final results, we continue to apply this approach, as it is consistent with the intent of, and our use of, section 735(c)(5)(A) of the Act.¹³

¹⁰ Id. at 9-11.

¹¹ See, e.g., Certain Frozen Warmwater Shrimp from the Socialist Republic of Vietnam: Final Results and Final Partial Rescission of Antidumping Duty Administrative Review, 76 FR 56158, 56160 (September 12, 2011) (Vietnam Shrimp).

¹² See Memorandum, “Certain Activated Carbon from the People's Republic of China: Calculation of Margin for Respondents Not Selected for Individual Examination,” dated concurrently with this notice.

¹³ See Vietnam Shrimp, 76 FR 56160.

Final Results of the Review

For companies subject to this review, which established their eligibility for a separate rate, Commerce determines that the following weighted-average dumping margins exist for the POR from April 1, 2019, through March 31, 2020:

Exporters | Weighted- average dumping margin (USD/kg) ¹⁴
Carbon Activated Tianjin Co., Ltd | 1.13
Datong Juqiang Activated Carbon Co., Ltd | 0.31
Review-Specific Rate Applicable to the Following Companies: ¹⁵
Datong Municipal Yunguang Activated Carbon Co., Ltd | 0.47
Jacobi Carbons AB ¹⁶ | 0.47
Ningxia Guanghua Cherishmet Activated Carbon Co., Ltd | 0.47
Ningxia Huahui Environmental Technology Co., Ltd. (formerly Ningxia Huahui Activated Carbon Co., Ltd.) ¹⁷ | 0.47
Ningxia Mineral & Chemical Limited | 0.47
Shanxi Sincere Industrial Co., Ltd | 0.47
Tancarb Activated Carbon Co., Ltd | 0.47

In the Preliminary Results, Commerce found that 61 companies for which a review was requested ¹⁸ did not establish eligibility for a separate rate because they did not file a separate rate application or a separate rate certification, as appropriate.¹⁹ No interested party commented on Commerce's preliminary determination with respect to these 61 companies. Therefore, for these final results we determine these companies to be part of the China-wide entity. Because no party requested a review of the China-wide entity, and Commerce no longer considers the China-wide entity as an exporter conditionally subject to administrative reviews,²⁰ we did not conduct a review of the China-wide entity. Thus, the weighted-average dumping margin for the China-wide entity (i.e., 2.42 USD/kg) ²¹ is not subject to change as a result of this review.

¹⁴ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) (AR2 Carbon), and accompanying Issues and Decision Memorandum (IDM) at Comment 3.

¹⁵ This is the rate applicable to the non-examined separate rate respondents, as discussed above.

¹⁶ In the third administrative review of the Order, Commerce found that Jacobi Carbons AB, Tianjin Jacobi International Trading Co. Ltd. (Tianjin Jacobi), and Jacobi Carbons Industry (Tianjin) (Jacobi Carbons) (collectively, Jacobi) should be treated as a single entity, and because there were no facts presented on the record of this review which would call into question our prior finding, we continue to treat these companies as part of a single entity for this administrative review, pursuant to sections 771(33)(E), (F), and (G) of the Act, and 19 CFR 351.401(f). See Certain Activated Carbon from the People's Republic of China: Final Results and Partial Rescission of Third Antidumping Duty Administrative Review, 76 FR 67142, 67145, n.25 (October 31, 2011); see also Preliminary Results PDM. Further, in a changed circumstances review of the Order, Commerce determined that Jacobi should be collapsed with its new wholly-owned Chinese affiliate, Jacobi Adsorbent Materials (JAM), and the single entity, inclusive of JAM, should be assigned the same AD cash deposit rate assigned to Jacobi for purposes of determining AD liability in this proceeding. See Certain Activated Carbon from the People's Republic of China: Notice of Final Results of Antidumping Duty Changed Circumstances Review, 86 FR 58874 (October 25, 2021). Therefore, for these final results, we have assigned the new Jacobi single entity, inclusive of JAM, the same AD rate for cash deposit purposes as the rate assigned to Jacobi for purposes of assessment.

¹⁷ In a changed circumstances review of the Order, Commerce found that Ningxia Huahui Environmental Technology Co., Ltd. is the successor-in-interest to Ningxia Huahui Activated Carbon Co. Ltd. (Ninxia Huahui), and should be assigned the same AD cash deposit rate assigned to Ningxia Huahui for purposes of determining AD liability in this proceeding. See Certain Activated Carbon from the People's Republic of China: Notice of Final Results of Antidumping Duty Changed Circumstances Review, 86 FR 64184 (November 17, 2021). Therefore, for these final results, we have assigned the same AD rate for cash deposit purposes to Ningxia Huahui Environmental Technology Co., Ltd. as the rate assigned to Ningxia Huahui for assessment purposes.

¹⁸ See Appendix II of this notice for a full list of the 61 companies.

¹⁹ See Preliminary Results PDM at 8. The total number of company names for which Commerce initiated this review is 76. Six of those companies under review submitted no shipment certifications. Two of those companies for which Commerce initiated this review are the mandatory respondents, and seven are separate rate applicants. One of the separate rate applicants, Jacobi, includes two other company names from the initiation notice in its single-entity group. See Initiation of Antidumping and Countervailing Duty Administrative Reviews, 85 FR 35068 (June 8, 2020) at 35070.

²⁰ See Antidumping Proceedings: Announcement of Change in Department Practice for Respondent Selection in Antidumping Duty Proceedings and Conditional Review of the Nonmarket Economy Entity in NME Antidumping Duty Proceedings, 78 FR 65963, 65969-70 (November 4, 2013).

²¹ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For each individually-examined respondent in this review which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).²² We will also calculate (estimated) ad valorem importer-specific assessment rates with which to determine whether the per-unit assessment rates are de minimis.²³ Where either the respondent's weighted-average dumping margin is zero or de minimis, or an importer- (or customer-) specific assessment rate is zero or de minimis, we will instruct CBP to liquidate the appropriate entries without regard to antidumping duties.²⁴

²² See AR2 Carbon IDM at Comment 3.

²³ For calculated (estimated) ad valorem importer-specific assessment rates used in determining whether the per-unit assessment rates are de minimis, see Memorandum, “Antidumping Duty Administrative Review of Certain Activated Carbon the People's Republic of China: Preliminary Results Calculation Memorandum for Carbon Activated,” dated June 21, 2021; and Datong Juqiang's Final Calculation Memorandum and attached Margin Calculation Program Logs and Outputs.

²⁴ See 19 CFR 351.106(c)(2).

For the respondents which were not selected for individual examination in this administrative review and which qualified for a separate rate, the assessment rate will be equal to the rate assigned to them for the final results (i.e., 0.47 USD/kg). For the companies identified as part of the China-wide entity, we will instruct CBP to apply a per-unit assessment rate of 2.42 USD/kg to all entries of subject merchandise during the POR which were produced or exported by those companies. Pursuant to a refinement in our non-market economy practice, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.²⁵

²⁵ For a full discussion of this practice, see Assessment Practice Refinement, 76 FR at 65694.

Cash Deposit Requirements

The following per-unit cash deposit requirements will be effective upon publication of the final results of this administrative review for all shipments of the subject merchandise from China entered, or withdrawn from warehouse, for consumption on or after the publication date, as provided by section 751(a)(2)(C) of the Act: (1) For Carbon Activated, Datong Juqiang, and the non-examined separate rate respondents, the cash deposit rate will be equal to their weighted-average dumping margins established in the final results of this review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 2.42 USD/kg); and (4) for all non-Chinese exporters of subject merchandise which have not received their own separate rate, the cash deposit rate will be the rate applicable to the Chinese exporter(s) that supplied that non-Chinese exporter. These per-unit cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: December 17, 2021.
Ryan Majerus,
Deputy Assistant Secretary for Policy and Negotiations, performing the non-exclusive functions and duties of the Assistant Secretary for Enforcement and Compliance.

Appendix I

Issues and Decision Memorandum

I. Summary

II. Background

III. Scope of the Order

IV. Changes Since the Preliminary Results

V. Discussion of the Issues

Comment 1: Adjustment of Datong Juqiang's Reported Per-Unit Consumption Factor for Bituminous Coal

Comment 2: By-Product Offset

Comment 3: Adjustment of DJAC USA's Reported Indirect Selling Expense Ratio

Comment 4: Bituminous Coal Surrogate Value

Comment 5: Coal Tar Surrogate Value

Comment 6: Selection of Surrogate Financial Statements

Comment 7: Carbonized Material Surrogate Value

Comment 8: Ocean Freight Surrogate Value

Comment 9: Hydrochloric Acid Surrogate Value

Comment 10: Steam Surrogate Value

VI. Recommendation

Appendix II

Companies Not Eligible for a Separate Rate and Treated as Part of the China-Wide Entity

1. AM Global Shipping Lines Co., Ltd.

2. Apex Maritime (Tianjin) Co., Ltd.

3. Ardic Worldwide Logistics Ltd.

4. Beijing Kang Jie Kong International Cargo Agent Co Ltd

5. Bengbu Modern Environmental Co., Ltd.

6. Brilliant Logistics Group Inc.

7. China Combi Works Oy Ltd.

8. China International Freight Co., Ltd.

9. Cohesion Freight (HK) Ltd.

10. Datong Municipal Yunguang

11. De Well Container Shipping Corp.

12. Derun Charcoal Carbon Co., Ltd.

13. Endurance Cargo Management Co., Ltd.

14. Envitek (China) Ltd.

15. Excel Shipping Co., Ltd.

16. Fujian Xinsen Carbon Co., Ltd.

17. Fuzhou Yihuan Carbon Co., Ltd.

18. Fuzhou Yuemengfeng Trade Co., Ltd.

19. Gongyi City Bei Shan Kou Water Purification Materials Factory

20. Guangdong Hanyan Activated Carbon Manufacturing Co., Ltd.

21. Guangzhou Four E'S Scientific Co., Ltd.

22. Hangzhou Hengxing Activated Carbon

23. Henan Dailygreen Trading Co., Ltd.

24. Honour Lane Shipping Ltd.

25. Ingevity Corp.

26. Ingevity Performance Materials

27. Jiangsu Kejing Carbon Fiber Co., Ltd.

28. Jiangxi Yuanli Huaiyushan Active Carbon

29. King Freight International Corp.

30. M Chemical Company, Inc.

31. Meadwestvaco Trading (Shanghai)

32. Muk Chi Trade Co., Ltd.

33. Nanping Yuanli Active Carbon Co.

34. Pacific Star Express (China) Company Ltd.

35. Panalpina World Transport (China) Ltd.

36. Pingdingshan Green Forest Activated Carbon Factory

37. Pingdingshan Lvlin Activated Carbon Co., Ltd.

38. Pudong Prime International Logistics

39. Safround Logistics Co.

40. Seatrade International Transportation

41. Shanghai Caleb Industrial Co. Ltd.

42. Shanghai Express Global International

43. Shanghai Line Feng Int'l Transportation

44. Shanghai Pudong International Transportation

45. Shanghai Sunson Activated Carbon

46. Shanghai Xinjinhu Activated Carbon

47. Shanxi DMD Corp.

48. Shanxi Industry Technology Trading (ITT)

49. Shenzhen Calux Purification Technology Co., Ltd.

50. Shijiazhuang Tangju Trading Co.

51. Sinoacarbon International Trading Co., Ltd.

52. The Ultimate Solid Logistics Ltd.

53. T.H.I. Group (Shanghai) Ltd.

54. Tianjin Maijin Industries Co., Ltd.

55. Translink Shipping Inc.

56. Trans-Power International Logistics Co., Ltd.

57. Triple Eagle Container Line

58. U.S. United Logistics (Ningbo) Inc.

59. Yusen Logistics Co., Ltd.

60. Zhejiang Topc Chemical Industry

61. Zhengzhou Zhulin Activated Carbon

[FR Doc. 2021-28171 Filed 12-27-21; 8:45 am]

BILLING CODE 3510-DS-P